U.S. INTERNATIONAL DEVELOPMENT FINANCE CORPORATION

[DFC-001A, DFC001B]

Submission for OMB Review; Comments Request; Correction

AGENCY: U.S. International Development Finance Corporation (DFC).

ACTION: Notice of information collection; correction.

SUMMARY: DFC published a document in the Federal Register on July 24, 2025, concerning requests for comments on this notice to allow an additional thirty (30) days for public comments to be submitted. The 60-day date was an error.

SUPPLEMENTARY INFORMATION:

Correction

In the Federal Register of July 24, 2025, in FR Doc. 2025-13939, on page 34852, in the first column, correct the Dates caption to read: DATES: Comments must be received by September 5, 2025.

Lisa Wischkaemper,
Administrative Counsel, Office of the General Counsel.

[FR Doc. 2025-14936 Filed 8-5-25; 8:45 am]

BILLING CODE 3210-02-P